DEPARTMENT OF AGRICULTURE

Forest Service

Iron Ecosystem Restoration Project, Okanogan-Wenatchee National Forests, Kittitas County, Washington State

AGENCY: Forest Service, USDA.

ACTION: Notice of intent to prepare an environmental impact statement.

SUMMARY: The USDA Forest Service will prepare an environmental impact statement (EIS) to reduce the risk of wildfire in the Iron Ecosystem planning area due to the buildup of both aerial and ground fuels. Approximately 12,000 acres will be analyzed with treatment expected on 3,000 to 3,500 acres within the Swauk Late Successional Reserve (LSR). Much of the area is in Condition Class III and IV fuels types, which are greater than three to four times the natural range of fire occurrence in the area. The possibility of catastrophic wildfire exists through ignitions caused both by natural sources and increased traffic on U.S. Route 97 and forest roads.

The Forest Service proposes to thin these stands from below to restore forest health and resistance to stand replacing wildfire, and to be better protect late successional refugia. Protection of refugia would be achieved by breaking up contiguous, heavy fuel loading across the Swauk landscape, focusing on dry sites and sites at risk above the point of historical fire starts. Techniques such as thinning from below (pre-commercial and commercial), mechanical treatments, under burning, piling, top yarding, mulching, and fuel wood sales are proposed as tools reduce heavy fuel loading. Re-introduction of prescribed fire after initial treatments are completed in also proposed. The planning area is located approximately 15 miles northeast of Cle Elum, Washington. The agency has given notice of the full environmental analysis and decision-making process that will occur on the proposal so that interested and affected people may become aware of how they car participate in the process and contribute to the final decision.

DATES: Comments concerning the scope of the analysis must be received by September 30, 2003.

ADDRESSES: Send written comments to the Cle Elum Ranger District, Attn: Floyd Rogalski, Natural Resource Planner, 803 West Second Street, Cle Elum, Washington 98922.

FOR FURTHER INFORMATION CONTACT: Floyd Rogalski, Natural Resource Planner Cle-Elum Ranger District, 803 West Second Street, Cle Elum, Washington 98922, (509) 674-4411.

SUPPLEMENTARY INFORMATION: This environmental impact statement (EIS) will analyze an areas for possible treatments designed to improve forest health while providing forest structure for wildlife habitat, such as the Northern Spotted Owl, and protecting other resource values. Risk of Wildfire has increased in the planning area due to the buildup of both aerial and ground fuels, exclusion of fire, and past harvest activities. These past treatment have reduced the presence of health, vigorous growing trees, while increasing the risk of stand replacement fire within an LSR. The possibility of wildfire ignition exists with increased recreational use and vehicle traffic on U.S. Highway 97 and lateral roads.

Purpose and Need for Action. Past timber harvest treatments removed many of the early seral species, leaving more shade tolerant species such as grant and Douglas-fir. Root diseases are widespread within the planning area with grand fir being the most prone and currently showing high mortality as a result. Douglas-fir mistletoe is also widespread within this area, affecting the vigor of the stands and making them more susceptible to insect attacks. Past harvest treatments also removed a majority of the dominant overstory trees, changing stocking and distribution levels, thus increasing the probability of stand replacement fire.

The primary purpose of the Iron Ecosystem Restoration Project is to implement the National Fire Plan, (January 2002) and Healthy Forest Initiative (August 2002) in the planning area. Protection of values at risk within the Swauk LSR is ultimately of the highest importance. Values at risk in the planning area include habitat for threatened and endangered species, late-successional habitat, wildland urban interface, aquatic habitat values, water quality, science values, and long-term forest stability and forest health. A strategic landscape plan would be developed and implemented for silviculturally treating heavily stocked stands for long-term stability and growth of fire resistant overstory trees, for protection of the highest quality spotted owl habitat from stand replacement fire, and for protection of current and planned home sites on private land in the Wildland Urban interface.

Proposed Action. The proposed action is to treat stands within the project area to reduce potential fire spread in the event of an ignition and to improve forest health, while continuing to provide forest structure for wildlife habitat and other resources. The Forest Service would focus treatment on those stands with greater tree densities and higher fuel loadings, considering their location on the landscape in terms of aspect and slope, and the projected benefits of manipulation in these stands to enhance suppression efforts. There have been 95 units identified that involve stands that contain a variety of mixed conifer and dry-site pine forest. These unit vary in size from 5 to 150 acres.

The proposed action includes burning natural meadow openings (~120 acres) to stop the encroachment by tree species, use of fire and/or mechanical treatments (~2500 acres) to restore open pine stands, thinning with fire and mechanical treatments (~3000 acres), commercial removal of small diameter trees in stands where thinning would reduce competition and benefit residual stand vigor and resistance to forest insects and disease, and mechanical piling and burning of slash (~2500 acres) in stands with high levels of existing hazardous fuel concentrations.

The existing road and trail system needed to implement vegetative treatments within the project area would also be evaluated. This evaluation would include the analysis of mitigation measures needed to meet resource objectives within the project area. Mitigation measures may include relocation, reconstruction, closure, obliteration and decommissioning of existing roads and trails. The actual miles of road and trails that would be affected by this project have not yet been determined; the current road density averages ~2 mi/sq mile in the planning area.

Possible Alternatives. Alternative consider at this time include following; No Action; Fuel Reduction Outside of Preferred Owl Habitat; Fuel Reduction Outside of Preferred habitat and Breeding Radii in Owl Habitat; and Fuel Reduction Outside of Preferred, Breeding, and Home Range Areas with Light Thinning.

Nature of Decision To Be Made. The decision to be made is whether vegetative treatment and road and trail system changes should be carried out within the Iron Ecosystem Restoration Project area and, if so, how, where, and to what extent across the landscape.

Scoping Process. The proposed project was first listed in the Wenatchee National Forest Schedule of Proposed Actions in 1997 as the Iron Thin Project. In January 2000 scoping letters were sent to the District NEPA mailing list, referring to this project as the Iron Thin Forest Health Project. The project has been listed continuously, under one of these names, in the Schedule of Proposed Actions for the Okanogan and Wenatchee National Forests since the Second Quarter 1997 edition. Information will continue to be distributed through periodic mailings. There are no public meetings scheduled at this time.

Issues. At this time, the preliminary issues identified include potential impacts on: Threatened and endangered species habitat; changes in vegetative condition and forest succession resulting from the proposed activities; treatment of fuels to modify fire behavior; cumulative effects on long term site productivity; management of the roads for future access and use within the project area; economic viability of the project; and potential impacts to visual quality along U.S. Highway 97. Other issues considered in analysis include: Potential impacts to cultural resources within the project area; noxious weed concerns; potential effects to hydrologic relationships and fish habitat conditions; potential effects on recreational access; use within the project area [including winter recreation]; and potential impacts to Survey and Manage species.

Comment Requested. Your comments are being sought to aid in the identification of additional issues that should be considered in the development of the EIS. Public participation will be especially important at several points during the analysis. The Forest Service will be seeking information, comments, and assistance from Federal, state, Tribal, and local agencies, and other individuals or organizations who may be interested in or affected by the proposed actions. This information will be used in preparation of the draft EIS.

Comments received in response to this notice and through scoping, including names and addresses of those who comment, will be considered part of the public record on this proposed action and will be available for public inspection. Comments submitted anonymously will be accepted and considered; however, those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect secrets. The Forest Service will inform the requester of the agency's decision regarding the request for confidentiality, and where the request is denied; the agency will return the submission and notify the requester that the comments may be resubmitted with or without name and address within a specified number of days.

A draft EIS is expected to be filed with the Environmental Protection Agency (EPA) and is to be available for public review by December 2003. The comment period on the draft EIS will be 45 days from the date the EPA publishes the notice of availability in the Federal Register. The final EIS is scheduled to be completed June 2004.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that coulb be raised at the draft EIS statement stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing provisions of the National Environmental lPolicy Act at 40 CFR 1503.3 in addressing these points.

In the final EIS, the Forest Service is required to respond to substantive comments and responses received during the comment period that pertain to the environmental consequences discussed in the draft EIS and applicable laws, regulations and policies considered in making a decision regarding the proposal. The Responsible Official is Forest Supervisor, Okanogan-Wenatchee National Forests. The Responsible Official will document the decision and rationale for the decision in a Record of Decision. The decision will be subject to review under Forest Service Appeal Regulation (36 CFR part 215).

Dated: August 1, 2003.
Alan Quan,
Deputy Forest Supervisor.

[FR Doc. 03-20703 Filed 8-13-03; 8:45 am]

BILLING CODE 3410-11-M